DEPARTMENT OF THE INTERIOR

Bureau of Land Management

[NV-050-01-5101-ER-F329; N-11028, N-74762, N-74763, N-74764]

Notice of Intent To Prepare an Environmental Impact Statement for a Proposed Gas Fired Electric Power Plant and Ancillary Facilities in Clark and Lincoln Counties, Nevada, and Notice of Public Meetings

AGENCY: Bureau of Land Management, Interior.

ACTION: Notice of Intent (NOI) to prepare an Environmental Impact Statement (EIS) and notice of EIS public scoping meetings for construction of a gas fired, water cooled, electric power plant and ancillary facilities (Meadow Valley Generating Project) in the Moapa Valley area of Clark County and ancillary facilities in both Clark and Lincoln Counties, Nevada.

SUMMARY: Pursuant to Section 102(2)(C) of the National Environmental Policy Act of 1969, the Bureau of Land Management (BLM), Las Vegas Field Office, will be directing the preparation of an EIS and conducting public scoping meetings for the Meadow Valley Generating Project to assess the potential impacts of rights-of-way (ROW), a conveyance, or a commercial lease for a proposed power-generating facility and ROW for the proposed associated ancillary facilities in Clark and Lincoln Counties.

The proposed Meadow Valley Generating Project includes a nominal 1,100-megawatt power-generating facility in Moapa Valley and an approximate 19.3-mile, 500 kV alternating current transmission line to interconnect the generating facility to the existing Nevada Power Company's Crystal Substation in Clark County. Natural gas would be supplied by an approximate 0.8-mile, 20-inch diameter natural gas supply line from a tie-in point with the BLM authorized and existing Kern River Transmission system in Clark County. Water facilities will include a 0.8-mile, 20-inch diameter wastewater discharge line to agricultural lands located northeast of the generating facility in Clark County; a 17.5-mile, 20-inch diameter water pipeline in Clark and Lincoln Counties with approximately twelve, one-acre well sites in Lincoln County, and a new 8.5-mile, 20-inch diameter water pipeline running parallel to BLM authorized and existing Moapa Valley Water District's water pipelines extending from the Bowman Reservoir to the Meadow Valley Generating Project site. Additional electric facilities include a nine-mile 69kV transmission line, a 10MVA Substation, and approximately nine-miles of 34.5 kV (maximum) distribution line maintained by the Lincoln County Power District in Clark and Lincoln Counties. There would be a relocation of the existing water and electrical transmission lines that currently traverse the generating facility site to the southern boundary of the site in Clark County. The BLM will require a bond in accordance with 43 CFR 2803.1-4.

SUPPLEMENTARY INFORMATION: The Meadow Valley project area is located in the southeastern part of Nevada in Lincoln and Clark Counties, Nevada. The area is accessible by Interstate 15 and State Highway 168. There are existing dirt roads throughout the area to provide access to the proposed project area. Ancillary facilities are located in a variety of settings, including upland and flat terrain.

The proposed power generating facility development area encompasses approximately 155 acres of public lands. The legal description of the public land proposed to be available for the power generating facility is:

Mount Diablo Meridian, Clark County, Nevada

T.14 S., R. 66 E.,

Sec. 28, SW¼, except the E½ NE¼ NE¼ SW¼.

containing 155 acres more or less.

The legal description of the public land for the ancillary ROW facilities (electrical transmission lines, water, and gas pipelines) is not provided here due to the length of the legal description. However, maps of the proposed project are available for viewing at the Bureau of Land Management, Las Vegas Field Office, 4765 Vegas Drive, Las Vegas, NV 89108.

Preliminary Issues

Tentatively identified issues of concern include threatened and endangered species, water resources, wilderness, visual resources, wildlife, cultural resources, and land use.

Possible Alternatives

The EIS will analyze the Proposed Actions and No Action Alternative. Other alternatives may include modifying proposed locations of roads and linear ROW, analyzing a smaller output facility and cooling options, and a conveyance or commercial lease of the public lands for the power plant site.

Decisions To Be Made

The Record of Decision to the EIS is whether to grant ROW for the power plant and ancillary facilities, or to convey or commercially lease the public land for the power plant site.

Public Scoping Meetings

Three public scoping meetings are planned. The meetings will provide the public an opportunity to present comments or issues that will be addressed in the EIS. The meetings will be held in an “open house format” beginning at 6:00 p.m. and ending at 9:00 p.m. At 7:00 p.m., the EIS process will be explained. An opportunity will be given for verbal comments specific to the proposal and written comments can also be submitted.

Meetings have been scheduled for the following locations:

Monday, July 23, 2001, at the Clark County Government Center, ETD Room 3, 500 S. Grand Central Parkway, Las Vegas, NV 89155

Tuesday, July 24, 2001, at the Moapa Courthouse, 1340 East Hwy 168, Moapa, NV 89025

Wednesday, July 25, 2001, at the Caliente City Hall Council Chambers, 100 Depot Ave, Caliente, NV 89008

Public Input Requested

Comments concerning the Proposed Actions and EIS should address issues to be considered, feasible alternatives to examine, possible mitigation, and information relevant to, or having a bearing on the Proposed Action.

Comment Dates

The comment period for scoping the EIS will commence with the publication of this notice. Those having concerns, issues, or alternatives they would like to see addressed in the EIS should respond with written comments within 30 days from the date of this notice. This Scoping Notice will be distributed by mail on or about the date of this notice.

All comments received at the public scoping meetings or through written comments submitted will aid the BLM in identifying alternatives and assuring all issues are analyzed in the environmental impact statement.

ADDRESSES: Information and a copy of this Notice of Intent for the Meadow Valley EIS can be obtained by either writing to or visiting the Bureau of Land Management, Las Vegas Field Office, 4765 Vegas Drive, Las Vegas, Nevada 89108.

Comments and issues on the proposed EIS should be mailed to Jacqueline Gratton, Project Manager, Bureau of Land Management, Las Vegas Field Office, 4765 Vegas Drive, Las Vegas, Nevada 89108, or at e-mail jgratton@nv.blm.gov.

FOR FURTHER INFORMATION CONTACT: Jacqueline Gratton, (702) 647-5054, or at e-mail jgratton@nv.blm.gov.

Dated: June 22, 2001.
Rex Wells,
Acting Field Manager.

[FR Doc. 01-16784 Filed 7-3-01; 8:45 am]

BILLING CODE 4310-HC-P